DEPARTMENT OF TRANSPORTATION

Federal Motor Carrier Safety Administration

49 CFR Part 380

[Docket No. FMCSA-2017-0371]

RIN 2126-AC05

Commercial Driver's License Upgrade From Class B to Class A; Correction

AGENCY: Federal Motor Carrier Safety Administration (FMCSA), DOT.

ACTION: Final rule; correction.

SUMMARY: FMCSA corrects the entry-level driver training (ELDT) final rule published on March 6, 2019, titled “Commercial Driver's License Upgrade from Class B to Class A.” The March 6, 2019 final rule contained an error in the amendatory instruction that is being corrected in order to ensure the regulatory text matches the discussion of the change being made in the preamble to the document.

DATES: Effective May 6, 2019.

FOR FURTHER INFORMATION CONTACT: Mr. Richard Clemente, Driver and Carrier Operations (MC-PSD) Division, FMCSA, 1200 New Jersey Ave. SE, Washington, DC 20590-0001, by telephone at 202-366-4325, or by email at MCPSD@dot.gov. If you have questions on viewing or submitting material to the docket, contact Docket Services, telephone (202) 366-9826.

SUPPLEMENTARY INFORMATION: In FR Doc. 2019-04044 appearing on page 8029 in the Federal Register of Wednesday, March 6, 2019, the following correction is made:

§ 380.707 [Corrected]

1. On page 8040, in the third column, in part 380, in amendment 2 for § 380.707, the instruction “amend paragraph (a) by adding the words “or Class A theory instruction upgrade curriculum applicants” to the end of the final sentence” is corrected to read “amend paragraph (a) by adding the words “or Class A theory instruction upgrade curriculum applicants” after the words “all accepted BTW applicants” in the final sentence.”

Issued under authority delegated in 49 CFR 1.87.
Dated: March 15, 2019.
Larry W. Minor,
Associate Administrator for Policy.

[FR Doc. 2019-05382 Filed 3-20-19; 8:45 am]

BILLING CODE 4910-EX-P